DEPARTMENT OF THE INTERIOR

[212A2100DD/AAKC001030/A0A501010.999900 253G]

Office of the Assistant Secretary—Indian Affairs; Not Invisible Act of 2019

AGENCY: Office of the Assistant Secretary—Indian Affairs, Interior.

ACTION: Notice of public meetings.

SUMMARY: The U.S. Department of the Interior (Department), in coordination with the U.S. Department of Justice, is hosting public meetings to obtain stakeholder input related to implementation of the Not Invisible Act of 2019, which was enacted to increase intergovernmental coordination to identify and combat violent crime on Indian lands and against Indians.

DATES: Comments from stakeholders must be submitted no later than Friday, September 17, 2021. Please see the SUPPLEMENTARY INFORMATION section of this notice for the dates of the public meetings.

ADDRESSES: Send written comments to Heidi Todacheene, by any of the following methods:

• Preferred method by email to: consultation@bia.gov;

• Mail, hand-carry or use an overnight courier service to Heidi Todacheene, Office of the Assistant Secretary—Indian Affairs, U.S. Department of the Interior, 1849 C Street NW, Mail Stop 4660, Washington, DC 20240.

Please see the SUPPLEMENTARY INFORMATION section of this notice for links to register for the public meetings.

FOR FURTHER INFORMATION CONTACT: Heidi Todacheene, Senior Advisor to the Assistant Secretary—Indian Affairs at heidi_todacheene@ios.doi.gov or (202) 208-7163.

SUPPLEMENTARY INFORMATION:

I. Background

Congress enacted the Not Invisible Act (Act), Public Law 116-166, 134 Stat. 766 (2020), to increase intergovernmental coordination to identify and combat violent crime within Indian lands and against Indians. Section 4 of the Act requires that the Secretary of the Interior (Secretary), in coordination with the United States Attorney General, establish and appoint members to a Joint Commission on Reducing Violent Crime Against Indians (Commission) to develop recommendations on actions the Federal Government can take to identify, coordinate, and combat violent crime against Indians.

Section 4(c)(2)(A) of the Act requires the Commission to develop recommendations on actions the Federal Government can take to help combat violent crime within Indian lands and against Indians, including recommendations for:

(i) Identifying, reporting, and responding to instances of missing persons, murder, and human trafficking on Indian lands and of Indians;

(ii) legislative and administrative changes necessary to use programs, properties, or other resources funded or operated by the Department of the Interior and Department of Justice to combat the crisis of missing or murdered Indians and human trafficking on Indian lands and of Indians;

(iii) tracking and reporting data on instances of missing persons, murder, and human trafficking on Indian lands and of Indians;

(iv) addressing staff shortages and open positions within relevant law enforcement agencies, including issues related to the hiring and retention of law enforcement officers;

(v) coordinating Tribal, State, and Federal resources to increase prosecution of murder and human trafficking offenses on Indian lands and of Indians; and

(vi) increasing information sharing with Tribal governments on violent crime investigations and prosecutions in Indian lands that were terminated or declined.

II. Public Meetings

A. Purpose of the Public Meetings

The Department is holding public meetings to receive input from stakeholders on the formation of the Commission and what the Commission should consider when developing recommendations that will have lasting impacts on Indian Country and further address the missing and murdered Indigenous peoples crisis. The Department particularly seeks input from stakeholders who are diverse with expertise on the subject area, and those who are directly affected by violent crime against American Indians and Alaska Natives, including those in Tribal leadership, law enforcement, the judicial system, health care and mental health practitioners, counselors, national/regional/urban Indian organizations, and survivors and family members of individuals affected by violent crime. The Department is hosting separate Tribal consultations on this topic and has invited Tribal leaders by letter. The Department will consider the comments received during both the public meetings and Tribal consultation to inform formation of the Commission, development of the priorities and goals of the Commission and the scope of its duties, and to identify existing information related to the Commission's objectives. In addition, the information will guide the structure and topics for hearings, the process for gathering testimony and receiving such evidence the Commission considers to be necessary to carry out its duties.

B. Questions for Stakeholder Consideration

The following questions are presented for stakeholder consideration:

(1) What, from the topics listed in Section 4(c)(2)(A) of the Act and repeated above, is a priority that would most benefit your community? Are there other topics related to the Commission's objectives that you wish the Commission to consider?

(2) The Act requires that the Commission include representation from and coordination across several federal agencies. Are there agencies, bureaus, offices, or programs you believe should be represented on the Commission that are not listed in the Act? Are there agencies, bureaus, offices, or programs that may not be represented on the Commission but that you believe the Commission should otherwise coordinate with or obtain input from? If so, please identify these agencies, bureaus, offices, or programs.

(3) The Act lists categories of individuals from outside the Federal Government to be represented on the Commission.¹ Are there other categories of individuals you believe should be represented on the Commission that are not listed in the Act? Do you have any recommendations on how best to identify and reach out to individuals from any of the listed categories?

¹ Tribal law enforcement; a Tribal judge with experience in cases related to missing persons, murder, or trafficking; not fewer than 3 national, regional, or urban Indian organizations focused on violence against women and children on Indian lands or against Indians; at least 2 Indian survivors of human trafficking; at least 2 family members of missing Indian people; and at least 2 family members of murdered Indian people. See Section 4(b)(2)(A),(K), (N)-(Q) of the Act. (Remaining categories will be selected based on Tribal nominations in accordance with the Act.)

(4) What are the unique challenges that your community wants the Commission to consider when developing recommendations for prevention efforts, grants, and programs of federal agencies related to murder of, trafficking of, and missing Indians?

(5) The Commission may hold hearings and take testimony to assist in carrying out its duties. Do you have specific recommendations on how hearings and testimony will best work to identify the challenges in combating violent crime within Indian lands and of Indians, including unique jurisdictional complexities on or near Indian lands?

(6) What suggestions do you have about how the Commission's recommendations can be most impactful? What other questions or comments do you wish to raise regarding implementation of the Not Invisible Act?

C. Public Meeting Schedule and Registration Links

The Department will conduct four public meetings by webinar and will accept both oral and written comments. Please register in advance for any session you plan on attending. After registering, you will receive a confirmation email containing information about joining the meeting. The public meeting schedule is as follows:

• Tuesday, August 31, 2021, 4 p.m.-6 p.m. ET. Please register in advance at: https://www.zoomgov.com/meeting/register/vJItcOivrzouG3KN7DL5sPE_iJO2nDEFQo0

• Thursday, September 2, 2021, 4 p.m.-6 p.m. ET. Please register in advance at: https://www.zoomgov.com/meeting/register/vJIsdeyqrD8uEueD_SSCIfVmlRIfExnwsiY

• Wednesday, September 8, 2021, 4 p.m.-6 p.m. ET. Please register in advance at: https://www.zoomgov.com/meeting/register/vJItfu-tqzMtGO5RBgQX5yNVpOXBsdtHhc4

• Friday, September 10, 2021, 4 p.m.-6 p.m. ET. Please register in advance at: https://www.zoomgov.com/meeting/register/vJIscuuuqD4pGto5l8YHNrNA3zifJ__Q6Gg

The Not Invisible Act of 2019 can be viewed at https://www.congress.gov/116/plaws/publ166/PLAW-116publ166.pdf.

III. Comments

The comments received from the Tribal consultation sessions and public meetings will help to identify the priorities and goals that will outline a framework for the Commission. You may submit your comments by any one of the methods listed in ADDRESSES. Before including your address, phone number, email address, or other personal identifying information in your comment, you should be aware that your entire comment—including your personal identifying information—may be made publicly available at any time. While you can ask the Department in your comment to withhold your personal identifying information from public view, the Department cannot guarantee that we will be able to do so.

Bryan Newland,
Principal Deputy Assistant Secretary—Indian Affairs.

[FR Doc. 2021-16698 Filed 8-4-21; 8:45 am]

BILLING CODE 4337-15-P